DEPARTMENT OF COMMERCE

International Trade Administration

[A-122-857]

Certain Softwood Lumber Products From Canada: Final Results of Antidumping Duty Administrative Review; 2019

AGENCY: Enforcement and Compliance, International Trade Administration, Department of Commerce.

SUMMARY: The Department of Commerce (Commerce) determines that producers and/or exporters subject to this administrative review made sales of subject merchandise at less than normal value during the period of review (POR), January 1, 2019, through December 31, 2019.

DATES: Applicable December 2, 2021.

FOR FURTHER INFORMATION CONTACT: Jeff Pedersen (Canfor) or Maisha Cryor (West Fraser), AD/CVD Operations, Office IV, Enforcement and Compliance, International Trade Administration, Department of Commerce, 1401 Constitution Avenue NW, Washington, DC 20230; telephone: (202) 482-2769 or (202) 482-5831, respectively.

SUPPLEMENTARY INFORMATION:

Background

Commerce published the Preliminary Results on May 27, 2021.¹ This review covers 273 producers/exporters of subject merchandise, including two mandatory respondents, Canfor,² and West Fraser.³ For events subsequent to the Preliminary Results, see Commerce's Issues and Decision Memorandum.⁴ The final weighted-average dumping margins are listed below in the “Final Results of Review” section of this notice. Commerce conducted this administrative review in accordance with section 751(a) of the Tariff Act of 1930, as amended (the Act).

¹ See Certain Softwood Lumber Products from Canada: Preliminary Results of Antidumping Duty Administrative Review, 86 FR 28551 (May 27, 2021) (Preliminary Results), and accompanying Preliminary Decision Memorandum (PDM).

² As described in the Preliminary Results PDM, we have treated Canfor Corporation, Canadian Forest Products Ltd., and Canfor Wood Products Marketing Ltd. (collectively, Canfor) as a single entity. See Preliminary Results PDM.

³ As described in the Preliminary Results PDM, we have treated West Fraser Mills Ltd., Blue Ridge Lumber Inc., Manning Forest Products Ltd., and Sundre Forest Products Inc. (collectively, West Fraser) as a single entity. See Preliminary Results PDM at 6-7.

⁴ See Memorandum, “Issues and Decision Memorandum for the Final Results of Certain Softwood Lumber Products from Canada” (Issues and Decision Memorandum), dated concurrently with, and hereby adopted by, this notice.

Scope of the Order

The product covered by this review is softwood lumber from Canada. For a full description of the scope, see the Issues and Decision Memorandum.

Analysis of Comments Received

All issues raised in the case briefs filed in this administrative review are addressed in the Issues and Decision Memorandum. A list of the topics discussed in the Issues and Decision Memorandum is appended to this notice. The Issues and Decision Memorandum is a public document and is available electronically via Enforcement and Compliance's Antidumping and Countervailing Duty Centralized Electronic Services System (ACCESS). ACCESS is available to registered users at http://access.trade.gov. In addition, a complete version of the Issues and Decision Memorandum is also accessible on the internet at https://access.trade.gov/public/FRNoticesListLayout.aspx.

Changes Since the Preliminary Results

Based on our review of the record and comments received from interested parties regarding our Preliminary Results, Commerce has made the following changes to the Preliminary Results:

• For Canfor, we corrected a ministerial error where we should have relied on the consolidated customer code but relied on a non-consolidated customer code.

• For Canfor, we updated the market prices for electricity used to value related party transactions involving steam and electricity to be based both on electricity transactions in both Alberta and British Columbia, rather than only in Alberta.

• We reduced the total cost of manufacturing for Canfor by the closure costs of its Vavenby sawmill.

• In calculating Canfor's interest expense, we included the losses on certain derivative investments.

• For West Fraser, we corrected a ministerial error regarding the manner in which we assigned the intended byproduct offset amount to the total cost of manufacturing.

• For West Fraser, we corrected an error with how we calculated the byproduct offset.

• For West Fraser, we made an adjustment to its total cost of manufacturing to account for seed purchases from a joint venture company.

• For West Fraser, we are relying on the alternative grade group product code to ensure a more accurate comparison of comparison market and U.S. market sales.

• For West Fraser, we are determining West Fraser's margin using the mixed method comparison method based upon the percentage of sales that passed the Cohen's d test.

Final Results of Review

As a result of this administrative review, we are assigning the following weighted-average dumping margins to the manufacturers/exporters listed below for the period of January 1, 2019, through December 31, 2019:

Exporter/producer | Weighted- average margin (percent)
Canfor Corporation/Canadian Forest Products Ltd./Canfor Wood Products Marketing Ltd | 17.12
West Fraser Mills Ltd., Blue Ridge Lumber Inc./Manning Forest Products Ltd./and Sundre Forest Products Inc | 6.06
Non-Selected Companies | 11.59

Assessment Rates

Pursuant to section 751(a)(2)(A) the Act and 19 CFR 351.212(b)(1), Commerce shall determine, and U.S. Customs and Border Protection (CBP) shall assess, antidumping duties on all appropriate entries of subject merchandise in accordance with the final results of this review.

We intend to calculate importer- (or customer-) specific assessment rates on the basis of the ratio of the total amount of antidumping duties calculated for each importer (or customer's) examined sales and the total entered value of the sales in accordance with 19 CFR 351.212(b)(1). Where an importer- (or customer-) specific rate is zero or de minimis within the meaning of 19 CFR 351.106(c)(1), we will instruct CBP to liquidate the appropriate entries without regard to antidumping duties.

Generally, when calculating margins for non-selected respondents, Commerce looks to section 735(c)(5) of the Act for guidance, which provides instructions for calculating the all-others margin in an investigation. Section 735(c)(5)(A) of the Act provides that when calculating the all-others margin, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 17.12 percent for Canfor and 6.06 percent for West Fraser. In accordance with section 735(c)(5)(A) of the Act, Commerce assigned the weighted-average of these two calculated weighted-average dumping margins, 11.59 percent, to the non-selected companies in these final results. The rate calculated for the non-selected companies is calculated based on the simple average of the margins of the two individually examined companies.⁵ Accordingly, we have applied a rate of 11.59 percent to the non-selected companies.⁶ A list of all non-selected companies is included in Attachment II.

⁵ For more information regarding the calculation of this margin, see Memorandum, “Calculation of the Rate for Non-Examined Companies,” dated concurrently with this notice.

⁶ Id.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.⁷

⁷ For a full discussion of this practice, see Antidumping and Countervailing Duty Proceedings: Assessment of Antidumping Duties, 68 FR 23954 (May 6, 2003).

The final results of this administrative review shall be the basis for the assessment of antidumping duties on entries of merchandise under review and for future cash deposits of estimated duties, where applicable. Commerce intends to issue assessment instructions to CBP no earlier than 41 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of these final results, as provided by section 751(a)(2)(C) of the Act: (1) The cash deposit rate for the companies under review will be equal to the weighted-average dumping margin listed above in the “Final Results of Review” section; (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 6.58 percent ad valorem, the all-others rate established in the less than fair value investigation.⁸ These cash deposit requirements, when imposed, shall remain in effect until further notice.

⁸ See Certain Softwood Lumber Products from Canada: Final Affirmative Determination of Sales at Less Than Fair Value and Affirmative Final Determination of Critical Circumstances, 82 FR 51806 (November 8, 2017).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act and 19 CFR 351.213(h).

Dated: November 23, 2021.
Ryan Majerus,
Deputy Assistant Secretary for Policy & Negotiations, performing the non-exclusive functions and duties of the Assistant Secretary for Enforcement and Compliance.

Appendix I

List of Topics Discussed in the Issues and Decision Memorandum

I. Summary

II. Background

III. Scope of the Order

IV. Discussion of the Issues

Comment 1. Particular Market Situation Allegation

Comment 2. Whether it was Proper to Accept Proprietary Grades

Comment 3. Whether it was Proper not to Select Resolute as a Respondent

Comment 4. Whether it was Proper not to Select Respondents based on Sampling

Comment 5. Whether it was Proper not to have Adjusted U.S. Price by Countervailing Duties

Comment 6. Zeroing

Comment 7. Differential Pricing

Comment 8. The Cohen's d and Ratio Test

Comment 9. Whether Commerce's Simple Average of Variances is Appropriate

Comment 10. Whether to Update J.D. Irving's Cash Deposit Rate

Comment 11. Whether Commerce Used the Proper Market Price for Canfor's Wood Chip Sales

Comment 12. Whether It Is Proper to Value Steam Based on the Market Price for Electricity, and Whether the Market Price of Electricity Should be Based Solely on Electricity Prices in Alberta

Comment 13. Whether Canfor's Prince George Sawmill's Purchases of Electricity Should be Adjusted

Comment 14. Whether Canfor's Restructuring Costs Should be Excluded from Mill Costs

Comment 15. Whether Commerce Should Adjust Canfor's Reported Net Interest Expense

Comment 16. Whether Commerce Committed a Ministerial Error in the Calculation of Canfor's Margin

Comment 17. Whether Commerce Should Include the Total Amount of Restructuring and Impairment Charges in West Fraser's General and Administrative Expense Ratio

Comment 18. Whether Commerce Made Certain Ministerial Errors With Respect to West Fraser's Byproduct Offset

Comment 19. Whether Commerce Made Certain Methodological Errors With Respect to West Fraser's Byproduct Offset

Comment 20. Whether Commerce Should Make an Adjustment to West Fraser's Seed Purchases

Comment 21. Whether Commerce Should Use West Fraser's Alternative Grade Group Information

V. Recommendation

Appendix II

Non-Selected Exporters/Producers

1. 0729670 B.C. Ltd. DBA Anderson Sales

2. 1074712 BC Ltd.

3. 258258 B.C. Ltd., dba Pacific Coast Cedar Products

4. 5214875 Manitoba Ltd.

5. 752615 B.C Ltd

6. 9224-5737 Quebec Inc. (aka A.G. Bois)

7. A.B. Cedar Shingle Inc.

8. Absolute Lumber Products Ltd.

9. AJ Forest Products Ltd.

10. Alberta Spruce Industries Ltd.

11. Aler Forest Products Ltd.

12. Alpa Lumber Mills Inc.

13. American Pacific Wood Products

14. Anbrook Industries Ltd.

15. Andersen Pacific Forest Products Ltd.

16. Anglo American Cedar Products Ltd.; Anglo-American Cedar Products Ltd.

17. Antrim Cedar Corporation

18. Aquila Cedar Products Ltd.

19. Arbec Lumber Inc.

20. Aspen Planers Ltd.

21. B&L Forest Products Ltd.

22. B.B. Pallets Inc.

23. Babine Forest Products Limited

24. Bakerview Forest Products Inc.

25. Bardobec Inc.

26. Barrette-Chapais Ltee

27. BarretteWood Inc.

28. Benoît & Dionne Produits Forestiers Ltee (aka Benoît & Dionne Forest Products Ltd.)

29. Best Quality Cedar Products Ltd.

30. Blanchet Multi Concept Inc.

31. Blanchette & Blanchette Inc.

32. Bois Aisé de Montréal Inc.

33. Bois Bonsaï Inc.

34. Bois Daaquam Inc.

35. Bois D'oeuvre Cedrico Inc. (aka Cedrico Lumber Inc.)

36. Bois et Solutions Marketing SPEC, Inc.

37. Boisaco Inc.

38. Boscus Canada Inc.

39. Boucher Bros. Lumber Ltd.

40. BPWood Ltd.

41. Bramwood Forest Inc.

42. Brink Forest Products Ltd.

43. Brunswick Valley Lumber Inc.

44. Busque & Laflamme Inc.

45. C&C Wood Products Ltd.

46. Caledonia Forest Products Inc.

47. Campbell River Shake & Shingle Co. Ltd.

48. Canadian American Forest Products Ltd.

49. Canadian Wood Products Inc.

50. Canasia Forest Industries Ltd.

51. Canusa Cedar Inc.

52. Canyon Lumber Company Ltd.

53. Careau Bois Inc.

54. Carrier & Begin Inc.

55. Carrier Forest Products Ltd.

56. Carrier Lumber Ltd.

57. Carter Forest Products Inc.

58. Cedar Valley Holdings Ltd.

59. Cedarline Industries Ltd.

60. Central Alberta Pallet Supply

61. Central Cedar Ltd.

62. Central Forest Products Inc.

63. Centurion Lumber Ltd.

64. Chaleur Sawmills LP

65. Channel-ex Trading Corporation

66. Clair Industrial Development Corp. Ltd.

67. Clermond Hamel Ltée

68. CNH Products Inc.

69. Coast Clear Wood Ltd.

70. Coast Mountain Cedar Products Ltd.

71. Commonwealth Plywood Co. Ltd.

72. Comox Valley Shakes Ltd.

73. Conifex Fibre Marketing Inc.

74. Cowichan Lumber Ltd.

75. CS Manufacturing Inc. (dba Cedarshed)

76. CWP—Industriel Inc.

77. CWP—Montréal Inc.

78. D & D Pallets Ltd.

79. Dakeryn Industries Ltd.

80. Decker Lake Forest Products Ltd.

81. Delco Forest Products Ltd.

82. Delta Cedar Specialties Ltd.

83. Devon Lumber Co. Ltd.

84. DH Manufacturing Inc.

85. Direct Cedar Supplies Ltd.

86. Doubletree Forest Products Ltd.

87. Downie Timber Ltd.

88. Dunkley Lumber Ltd.

89. EACOM Timber Corporation

90. East Fraser Fiber Co. Ltd.

91. Edgewood Forest Products Inc.

92. ER Probyn Export Ltd.

93. Eric Goguen & Sons Ltd.

94. Falcon Lumber Ltd.

95. Fontaine Inc.

96. Foothills Forest Products Inc.

97. Fornebu Lumber Company Inc.

98. Fraser Specialty Products Ltd.

99. Fraserview Cedar Products

100. FraserWood Inc.

101. FraserWood Industries Ltd.

102. Furtado Forest Products Ltd.

103. G & R Cedar Ltd.

104. Galloway Lumber Company Ltd.

105. Glandell Enterprises Inc.

106. Goat Lake Forest Products Ltd.

107. Goldband Shake & Shingle Ltd.

108. Golden Ears Shingle Ltd.

109. Goldwood Industries Ltd.

110. Goodfellow Inc.

111. Gorman Bros. Lumber Ltd.

112. Groupe Crête Chertsey Inc.

113. Groupe Crête ivision St-Faustin Inc.

114. Groupe Lebel Inc.

115. Groupe Lignarex Inc.

116. H.J. Crabbe & Sons Ltd.

117. Haida Forest Products Ltd.

118. Harry Freeman & Son Ltd.

119. Hornepayne Lumber LP

120. Imperial Cedar Products Ltd.

121. Imperial Shake Co. Ltd.

122. Independent Building Materials Distribution Inc.

123. Interfor Corporation

124. Island Cedar Products Ltd.

125. Ivor Forest Products Ltd.

126. J&G Log Works Ltd.

127. J.D. Irving, Limited

128. J.H. Huscroft Ltd.

129. Jan Woodlands (2001) Inc.

130. Jasco Forest Products Ltd.

131. Jazz Forest Products Ltd.

132. Jhajj Lumber Corporation

133. Kalesnikoff Lumber Co. Ltd.

134. Kan Wood Ltd.

135. Kebois Ltée/Ltd

136. Keystone Timber Ltd.

137. Kootenay Innovative Wood Ltd.

138. Lafontaine Lumber Inc.

139. Langevin Forest Products Inc.

140. Lecours Lumber Co. Limited

141. Ledwidge Lumber Co. Ltd.

142. Leisure Lumber Ltd.

143. Les Bois d'oeuvre Beaudoin Gauthier Inc.

144. Les Bois Martek Lumber

145. Les Bois Traités M.G. Inc.

146. Les Chantiers de Chibougamau Ltee

147. Les Produits Forestiers D&G Ltee (aka D&G Forest Products Ltd.)

148. Leslie Forest Products Ltd.

149. Lignum Forest Products LLP

150. Linwood Homes Ltd.

151. Longlac Lumber Inc.

152. Lulumco Inc.

153. Magnum Forest Products Ltd.

154. Maibec Inc.

155. Manitou Forest Products Ltd.

156. Marcel Lauzon Inc.

157. Marwood Ltd.

158. Materiaux Blanchet Inc.

159. Matsqui Management and Consulting Services Ltd., dba Canadian Cedar Roofing Depot

160. Metrie Canada Ltd.

161. Mid Valley Lumber Specialties Ltd.

162. Midway Lumber Mills Ltd.

163. Mill & Timber Products Ltd.

164. Millar Western Forest Products Ltd.

165. Mobilier Rustique (Beauce) Inc.

166. MP Atlantic Wood Ltd.

167. Multicedre Ltee

168. Murray Brothers Lumber Company Ltd.

169. Nakina Lumber Inc.

170. National Forest Products Ltd.

171. New Future Lumber Ltd.

172. Nicholson and Cates Ltd.

173. Norsask Forest Products Limited Partnership

174. North American Forest Products Ltd. (located in Abbotsford, British Columbia)

175. North American Forest Products Ltd. (located in Saint-Quentin, New Brunswick)

176. North Enderby Timber Ltd.

177. Oikawa Enterprises Ltd.

178. Olympic Industries Inc.

179. Olympic Industries ULC

180. Oregon Canadian Forest Products

181. Pacific Coast Cedar Products Ltd.

182. Pacific Pallet Ltd.

183. Pacific Western Wood Works Ltd.

184. Parallel Wood Products Ltd.

185. Pat Power Forest Products Corporation

186. Phoenix Forest Products Inc.

187. Pine Ideas Ltd.

188. Pioneer Pallet & Lumber Ltd.

189. Porcupine Wood Products Ltd.

190. Portbec Forest Products Ltd.

191. Power Wood Corp.

192. Precision Cedar Products Corp.

193. Prendiville Industries Ltd. (aka Kenora Forest Products)

194. Produits Forestiers Petit Paris Inc.

195. Produits forestiers Temrex, s.e.c.

196. Produits Matra Inc.

197. Promobois G.D.S. Inc.

198. Rayonier A.M. Canada GP

199. Rembos Inc.

200. Rene Bernard Inc.

201. Resolute Growth Canada Inc./Forest Products Mauricie LP, Société en commandite Scierie Opitciwan/Resolute-LP Engineered Wood Larouche Inc./Resolute-LP Engineered Wood St-Prime Limited Partnership/Resolute FP Canada Inc.

202. Richard Lutes Cedar Inc.

203. Rielly Industrial Lumber Inc.

204. Roland Boulanger & Cie Ltee

205. S & K Cedar Products Ltd.

206. S&R Sawmills Ltd.

207. S&W Forest Products Ltd.

208. San Industries Ltd.

209. Sawarne Lumber Co. Ltd.

210. Scierie Alexandre Lemay & Fils Inc.

211. Scierie P.S.E. Inc.

212. Scierie St-Michel Inc.

213. Scierie West Brome Inc.

214. Scotsburn Lumber Co. Ltd.

215. Sechoirs de Beauce Inc.

216. Serpentine Cedar Ltd.

217. Serpentine Cedar Roofing Ltd.

218. Sexton Lumber Co. Ltd.

219. Sigurdson Forest Products Ltd.

220. Silvaris Corporation

221. Silver Creek Premium Products Ltd.

222. Sinclar Group Forest Products Ltd.

223. Skana Forest Products Ltd.

224. Skeena Sawmills Ltd.

225. Sound Spars Enterprise Ltd.

226. South Beach Trading Inc.

227. Specialiste du Bardeau de Cedre Inc.

228. Spruceland Millworks Inc.

229. Star Lumber Canada Ltd.

230. Sundher Timber Products Ltd.

231. Surrey Cedar Ltd.

232. T.G. Wood Products Ltd.

233. Taan Forest Limited Partnership (aka Taan Forest Products)

234. Taiga Building Products Ltd.

235. Tall Tree Lumber Company

236. Teal Cedar Products Ltd.

237. Tembec Inc.

238. Terminal Forest Products Ltd.

239. The Teal Jones Group

240. The Wood Source Inc.

241. Tolko Industries Ltd.; Tolko Marketing and Sales Ltd.; Gilbert Smith Forest Products Ltd.

242. Trans-Pacific Trading Ltd.

243. Triad Forest Products Ltd.

244. Twin Rivers Paper Co. Inc.

245. Tyee Timber Products Ltd.

246. Universal Lumber Sales Ltd.

247. Usine Sartigan Inc.

248. Vaagen Fibre Canada ULC

249. Valley Cedar 2 Inc.

250. Vancouver Island Shingle Ltd.

251. Vancouver Specialty Cedar Products Ltd.

252. Vanderhoof Specialty Wood Products Ltd.

253. Visscher Lumber Inc.

254. W.I. Woodtone Industries Inc.

255. Waldun Forest Product Sales Ltd.

256. Watkins Sawmills Ltd.

257. West Bay Forest Products Ltd.

258. West Fraser Timber Co. Ltd.

259. West Wind Hardwood Inc.

260. Western Forest Products Inc.

261. Western Lumber Sales Limited

262. Western Wood Preservers Ltd.

263. Weston Forest Products Inc.

264. Westrend Exteriors Inc.

265. Weyerhaeuser Co.

266. White River Forest Products L.P.

267. Winton Homes Ltd.

268. Woodline Forest Products Ltd.

269. Woodstock Forest Products

270. Woodtone Specialties Inc.

271. Yarrow Wood Ltd.

[FR Doc. 2021-26149 Filed 12-1-21; 8:45 am]

BILLING CODE 3510-DS-P